DEPARTMENT OF THE INTERIOR

Bureau of Land Management

[CA-660-1430-ER-CACA-8974]

Proposed California Desert Conservation Area Plan Amendment and Environmental Impact Statement/Environmental Impact Report (EIS/EIR) for the Imperial Irrigation District's Proposed New 230-kV “BN-BS” Transmission Line Project, California

AGENCY: Bureau of Land Management (BLM) and the Imperial Irrigation District (IID), Interior

ACTION: Notice of Intent to prepare a California Desert Conservation Area (CDCA) Plan Amendment and joint EIS/EIR addressing a proposed 230-kV transmission line project.

SUMMARY: In compliance with regulations at 40 CFR 1501.7 and 43 CFR 1610.2, notice is hereby given that the BLM, together with the IID, propose to prepare an amendment to the California Desert Conservation Area (CDCA) Plan and to direct the preparation of a joint EIS/EIR for the IID's proposed 230 kilovolt (kV) “BN-BS” Transmission Line Project. The BLM is the lead Federal agency for the preparation of this EIS/EIR in compliance with the requirements of the National Environmental Policy Act (NEPA), the Council on Environmental Quality (CEQ) regulation for implementing NEPA (40 Code of Federal Regulations [CFR] 1500-1508), and the Department of the Interior's manual guidance on NEPA; and the IID is the lead State of California agency for the preparation of this EIS/EIR in compliance with the requirements of the California Environmental Quality Act (CEQA) (Public Resources Code section 21000 et seq.), and implementing guidelines (California Code of Regulations [CCR] Title 14, section 15000 et seq.), and IID's Rules and Regulations to Implement CEQA. This notice initiates the public participation process for planning, initiates public scoping for the EIS and also serves as an invitation for other cooperating agencies. Potential cooperating agencies include the U.S. Fish and Wildlife Service, Western Area Power Administration, the Department of Defense, the State Historic Preservation Officer, and the California Department of Fish and Game.

DATES: For scoping meetings and comments: Two public scoping meetings will be held during 2001 on the following dates:

1. March 28, from 7-10 p.m., at the IID Board Room, La Quinta, CA.

2. March 29, from 7-10 p.m., at the Blythe City Council Multipurpose Room, Blythe, CA.

Written comments must be postmarked no later than 30 days from the date of this notice in order to be included in the draft Plan/EIR/EIS. Please submit any comments to the address listed below.

ADDRESSES: Written comments should be addressed to Mr. James G. Kenna—Field Manager, Bureau of Land Management, Palm Springs-South Coast Field Office, 690 West Garnet Ave, P.O. Box 581260, North Palm Springs, California 92258-1260. The meeting locations are:

1. Imperial Irrigation District, 81-600 Ave. 58, La Quinta, CA.

2. Blythe City Council Multipurpose Room, 235 N. Broadway, Blythe CA.

FOR FURTHER INFORMATION CONTACT: John Kalish, Bureau of Land Management, Palm Springs-South Coast Field Office, 690 West Garnet Ave, P.O. Box 581260, North Palm Springs, California 92258-1260, (760) 251-4849.

SUPPLEMENTARY INFORMATION: The Imperial Irrigation District (IID) is a community owned utility providing power to more than 90,000 customers in Imperial County and parts of Riverside and San Diego Counties, all in California. The IID is experiencing an increase in electrical demand at an estimated rate of 20 to 30 megawatts annually. In an effort to meet electrical power demand, the IID is proposing to construct a 230 kilovolt (kV) electrical transmission line from Niland to Blythe, California to access available electrical power in the Blythe area. The proposed electrical transmission line begins four miles west of the City of Blythe, in Riverside County, California and traverses south and west to a point located 5.5 miles southeast of the City of Niland, in Imperial County, California. IID has an existing 161kV transmission line right-of-way, #CA-8974, from Niland to Blythe, California. IID is proposing to construct the 230 kV line adjacent to and parallel to their existing 161 kV line requiring an additional 360 foot wide right-of-way.

An amendment to the CDCA Plan is required because the existing 161 kV line and this proposal are not within one of the 16 utility corridors as designated in the California Desert Conservation Area (CDCA) Plan of 1980, as amended. The CDCA Plan states that new utility needs which do not conform to the adopted corridor system will be processed by means of a Plan Amendment in conjunction with necessary permit hearing required by other agencies. The proposed plan amendment will consider a range of alternatives including: (1) Allowing a one time exemption to the CDCA Plan Utility Corridor element to allow for installation of IID's proposed new 230 kV transmission line, (2) designating a new utility corridor from Niland to Blythe along the same route, and (3) not amending the CDCA Plan. If the CDCA Plan is not amended, then BLM may authorize installation of the 230 kV line transmission within existing utility corridors only, or BLM may deny the project. All of these alternatives will be analyzed within the EIS/EIR.

BLM has identified a preliminary list of issues which will need to be addressed in this analysis. Members of the public are invited to identify additional issues and concerns to be addressed. The preliminary list of issues includes the following: as proposed, this 230 kV line would traverse critical desert tortoise habitat as well as several BLM administered areas including the Chuckwalla Bench Area of Critical Environmental Concern, the Bradshaw Trail National Backcountry Byway, and the Mule Mountains Long Term Visitor Area. The proposed transmission line is also directly adjacent to the southern boundary of the Little Chuckwalla Mountains Wilderness Area. Of the 60 mile length of the proposed transmission line, approximately 44 miles is on BLM public lands administered by both the El Centro and Palm Springs-South Coast Field Offices. These 44 miles include a 17 mile portion that is on the United States Navy Chocolate Mountains Aerial and Gunnery Range.

Planning criteria (43 CFR 1610.4-2) are parameters, generally based on applicable law, which guide development of the plan amendment, to ensure the planning process to tailored to the issues and unnecessary data collection is avoided. The BLM has put together the following preliminary list of planning criteria and invites the public to provide written comments on these criteria. The draft Northern and Eastern Colorado Desert (NECO) Plan and draft EIS shall be considered to ensure that there are no inconsistencies between NECO and the IID proposal. This is critical as the NECO Plan has been prepared to addressed recovery of the Federally listed desert tortoise. The IID proposal itself will be subject to Section 7 consultation in accordance with the Endangered Species Act of 1973 as amended to address potential impacts to desert tortoise, including cumulative impacts.

The planning process and environmental review analysis for the CDCA Plan Amendment shall be conducted from an interdisciplinary perspective to ensure all issues are adequately addressed. At minimum, input shall be sought from the following disciplines: biological resources, cultural resources, visual resource management, recreation, wilderness, and lands and realty.

Interested members of the public are invited to participate in this planning/NEPA process, and are requested to help identify issues or concerns, additional planning criteria, and alternatives to be considered related to this proposed CDCA Plan amendment and proposed 230 kV transmission line. When available, the public will be provided a 90-day public review period on the draft plan amendment/EIS/EIR and a 30-day protest period on the proposed plan amendment/ final EIS/EIR. These documents will be made available on the Internet at BLM's website: www.ca.blm.gov and at local public libraries in the cities of Blythe, Niland, La Quinta and Cathedral City, California. Contact the BLM if you would like to be included in the mailing list to receive copies of all public notices relevant to this project. Local notice will be provided a minimum of 15 days prior to the meeting dates.

James G. Kenna,
Field Manager.

[FR Doc. 01-7310 Filed 3-23-01; 8:45 am]

BILLING CODE 4310-40-P